DEPARTMENT OF COMMERCE

International Trade Administration

[A-570-892]

Carbazole Violet Pigment 23 from the People's Republic of China: Final Results of Antidumping Duty Administrative Review

AGENCY: Import Administration, International Trade Administration, Department of Commerce.

SUMMARY: On November 7, 2006, the Department of Commerce (the Department) published in the Federal Register its preliminary results in the administrative review of the antidumping duty order on carbazole violet pigment 23 (CVP 23) from the People's Republic of China (PRC) for the period June 24, 2004, through November 30, 2005. See Carbazole Violet Pigment 23 from the People's Republic of China: Preliminary Results of Antidumping Duty Administrative Review and Rescission in Part, 71 FR 65073 (November 7, 2006) (Preliminary Results). We invited interested parties to comment on the Preliminary Results. Based upon our analysis of the comments received, we have made changes to our margin calculation; however, the final dumping margin for Tianjin Hanchem Trading Co., Ltd. (Hanchem) does not differ from the Preliminary Results. Hanchem's final dumping margin is listed in the “Final Results of Review” section below.

EFFECTIVE DATE: May 10, 2007.

FOR FURTHER INFORMATION CONTACT: Rebecca Trainor or Terre Keaton, AD/CVD Operations, Office 2, Import Administration, International Trade Administration, U.S. Department of Commerce, 14th Street and Constitution Avenue, NW, Washington, DC 20230; telephone: (202) 482-4007 or (202) 482-1280, respectively.

SUPPLEMENTARY INFORMATION:

Background

On November 7, 2006, the Department published its Preliminary Results in this administrative review. We invited interested parties to comment on the Preliminary Results. On November 27, 2006, the petitioners¹ submitted additional surrogate value information. On December 7, 2006, the petitioners and Clariant Corporation, a domestic interested party, filed case briefs. On December 14, 2006, Hanchem filed a rebuttal brief. On January 23, 2007, we extended the final results by 60 days. See Carbazole Violet Pigment 23 from the People's Republic of China; Notice of Extension of Time Limit for Final Results, 72 FR 2855 (January 23, 2007).

¹ The petitioners are Nation Ford Chemical Company and Sun Chemical Company.

We have conducted this administrative review in accordance with section 751 of the Tariff Act of 1930, as amended (the Act), and 19 CFR 351.213.

Period of Review

The period of review (POR) is June 24, 2004, through November 30, 2005.

Scope of Order

The merchandise covered by this order is carbazole violet pigment 23 identified as Color Index No. 51319 and Chemical Abstract No. 6358-30-1, with the chemical name of diindolo [3,2-b:3′,2′-m] triphenodioxazine, 8,18-dichloro-5, 15-diethy-5,15-dihydro-, and molecular formula of C34H22Cl2N4O2.² The subject merchandise includes the crude pigment in any form (e.g., dry powder, paste, wet cake) and finished pigment in the form of presscake and dry color. Pigment dispersions in any form (e.g., pigments dispersed in oleoresins, flammable solvents, water) are not included within the scope of this order. The merchandise subject to this order is classifiable under subheading 3204.17.9040 of the Harmonized Tariff Schedule of the United States (HTSUS). Although the HTSUS subheading is provided for convenience and customs purposes, the written description of the scope of this order is dispositive.

² The bracketed section of the product description, [3,2-b:3′,2′-m], is not business proprietary information, but is part of the chemical nomenclature.

Analysis of Comments Received

All issues raised in the post-preliminary comments by parties in this review are addressed in the memorandum from Stephen J. Claeys, Deputy Assistant Secretary for Import Administration, to David M. Spooner, Assistant Secretary for Import Administration, “Issues and Decision Memorandum for the Final Results of the 2004-2005 Administrative Review of Carbazole Violet Pigment 23 from the People's Republic of China “ dated May 3, 2007, (Issues and Decision Memorandum), which is hereby adopted by this notice. A list of the issues raised, all of which are in the Issues and Decision Memorandum, is attached to this notice as Appendix I. Parties can find a complete discussion of all issues raised in the briefs and the corresponding recommendations in this public memorandum, which is on file in the Central Records Unit (CRU), room B-099 of the Department of Commerce. In addition, a complete version of the Issues and Decision Memorandum can be accessed directly on the Web at http://ia.ita.doc.gov/frn. The paper copy and electronic version of the Issues and Decision Memorandum are identical in content.

Changes Since the Preliminary Results

Based on our analysis of comments received, we have made certain changes in the margin calculation. For a discussion of these changes, see the Issues and Decision Memorandum, at Comments 2 and 3.

Final Results of Review

The weighted-average dumping margin for the period June 24, 2004, through November 30, 2005 is as follows:

Exporter/Manufacturer | Weighted-Average Margin Percentage
Tianjin Hanchem International Trading Co., Ltd. | 0.00 percent

Assessment Rates

The Department shall determine, and Customs and Border Protection (CBP) shall assess, antidumping duties on all appropriate entries, in accordance with 19 CFR 351.212(b). The Department will issue assessment instructions directly to CBP 15 days after the date of publication of these final results of administrative review. Pursuant to 19 CFR 351.106(c), we will instruct CBP to assess antidumping duties on all appropriate entries covered by this review if any importer-specific assessment rate calculated in the final results of this review is above de minimis (i.e., is not less than 0.50 percent). We calculated the importer-specific ad valorem duty assessment rate based on the ratio of the total amount of the dumping margin calculated for the examined U.S. sale to the total entered value of that sale.

The Department clarified its “automatic assessment” regulation on May 6, 2003. See Antidumping and Countervailing Duty Proceedings: Assessment of Antidumping Duties, 68 FR 23954 (May 6, 2003). This clarification will apply to entries of subject merchandise during the POR produced by Hanchem included in these final results of review for which Hanchem did not know its merchandise was destined for the United States. In such instances, we will instruct CBP to liquidate unreviewed entries at the “All Others” rate if there is no rate for the intermediate company(ies) involved in the transaction.

Cash Deposit Requirements

The following cash deposit requirements will be effective upon publication of this notice of final results of administrative review for all shipments of CVP 23 from the PRC entered, or withdrawn from warehouse, for consumption on or after the publication date, as provided for by section 751(a)(2)(C) of the Act: (1) For Hanchem, the cash deposit rate will be zero; (2) for previously reviewed or investigated companies not listed above that have a separate rate, the cash deposit rate will continue to be the company-specific rate published for the most recent period; (3) the cash deposit rate for all other PRC exporters will be 241.32 percent, the current PRC-wide rate³; and (4) the cash deposit rate for all non-PRC exporters that do no have their own rate will be the rate applicable to the PRC exporter that supplied that non-PRC exporter. These cash deposit requirements shall remain in effect until further notice.

³ See The Final Results of Redetermination Pursuant to United States Court of International Trade Remand Order, Goldlink Industries Co., Ltd., Trust Chem Co., Ltd., Tianjin Hanchem International Trading Co., Ltd. v. United States, Slip Op. 06-65 (May 4, 2006), confirmed by the CIT on December 8, 2006. See also Carbazole Violet Pigment 23 from the People's Republic of China: Notice of Court Decision Not in Harmony with Final Determination of Sales at Less than Fair Value, 72 FR 327 (January 4, 2007).

Notification to Interested Parties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing these final results of review in accordance with sections 751(a)(1) and 777(i)(1) of the Act, and 19 CFR 351.213.

Dated: May 3, 2007.
David M. Spooner,
Assistant Secretary for Import Administration.

Appendix I: Issues Addressed in the Issues and Decision Memorandum

Comment 1: Surrogate Value for Chloranil

Comment 2: Surrogate Financial Ratios

Comment 3: Surrogate Value for Triethylamine

Comment 4: Brokerage Fees and Terminal Charges

[FR Doc. E7-9042 Filed 5-9-07; 8:45 am]

BILLING CODE 3510-DS-S